DEPARTMENT OF DEFENSE

Office of the Secretary

Defense Advisory Committee on Investigation, Prosecution, and Defense of Sexual Assault in the Armed Forces; Notice of Federal Advisory Committee Meeting

AGENCY: General Counsel of the Department of Defense, Department of Defense (DoD).

ACTION: Notice of Federal advisory committee meeting.

SUMMARY: The DoD is publishing this notice to announce that the following Federal Advisory Committee meeting of the Defense Advisory Committee on Investigation, Prosecution, and Defense of Sexual Assault in the Armed Forces will take place.

DATES: Tuesday, June 11, 2024—Open to the public from 1:30 p.m. to 4:45 p.m. EST and Wednesday, June 12, 2024—Open to the public from 9:30 a.m. to 4:00 p.m. EST.

ADDRESSES: Convene, 600 14th Street NW, Washington, DC. For virtual access to the meeting, email your request along with your name and contact information to the DAC-IPAD public email at whs.pentagon.em.mbx.dacipad@mail.mil.

FOR FURTHER INFORMATION CONTACT: Dwight Sullivan, 703-695-1055 (Voice), dwight.h.sullivan.civ@mail.mil (Email). Mailing address is DAC-IPAD, One Liberty Center, 875 N Randolph Street, Suite 150, Arlington, Virginia 22203. Website: https://dacipad.whs.mil/. The most up-to-date changes to the meeting agenda can be found on the website.

SUPPLEMENTARY INFORMATION: This meeting is being held under the provisions of chapter 10 of title 5 United States Code (U.S.C.) (commonly known as the Federal Advisory Committee Act of 1972 (5 U.S.C. App.) or “FACA”), the Government in the Sunshine Act of 1976 (5 U.S.C. 552b, as amended), and 41 Code of Federal Regulations (CFR) 102-3.140 and 102-3.50.

Due to circumstances beyond the control of the Designated Federal Officer, the Defense Advisory Committee on Investigation, Prosecution, and Defense of Sexual Assault in the Armed Forces was unable to provide public notification required by 41 CFR 102-3.150(a) concerning its June 11-12, 2024 meeting. Accordingly, the Advisory Committee Management Officer for the Department of Defense, pursuant to 41 CFR 102-3.150(b), waives the 15-calendar day notification requirement.

Purpose of the Meeting: In section 546 of the National Defense Authorization Act for Fiscal Year 2015 (Pub. L. 113-291), as modified by section 537 of the National Defense Authorization Act for Fiscal Year 2016 (Pub. L. 114-92), Congress tasked the DAC-IPAD to advise the Secretary of Defense on the investigation, prosecution, and defense of allegations of rape, sexual assault, and other sexual misconduct involving members of the Armed Forces. This will be the thirty-fifth public meeting held by the DAC-IPAD. On Day 1, the Committee will receive testimony from military justice appellate practitioners on Article 6b victims' rights and procedures for post-conviction review of courts-martial; and will hear from victims' rights experts on Military Rule of Evidence 513 litigation and Article 6b victims' rights litigation. On Day 2, the Committee will receive staff briefings on conviction integrity units; courts-martial panel member demographics; and updates from the Policy Subcommittee, and the Special Projects Subcommittee. Prior to adjournment, the Committee will hear comments from the public.

Agenda: Day 1: 1:30 p.m.-1:35 p.m. Welcome and Introduction to Public Meeting; 1:35 p.m.-2:35 p.m. Government Appellate Counsel from each Military Department; 2:35 p.m.-2:45 p.m. Break; 2:45 p.m.-3:45 p.m. Defense Appellate Counsel from each Military Department; 3:45 p.m.-4:45 p.m. Comparative Perspectives on Victims' Rights Litigation; 4:45 p.m. Public Meeting Day 1 Adjourned. Day 2: 9:30 a.m.-9:35 a.m. Welcome and Overview of Day 2; 9:35 a.m.-11:00 a.m. Conviction Integrity Units: Best Practices in Sexual Assault Cases; 11:00 a.m.-12:40 p.m. Demographics of Courts-Martial Panel Members for Fiscal Year 2022: Presentation and Deliberations; 12:40 p.m.-1:40 p.m. Lunch; 1:40 p.m.-2:40 p.m. Committee Deliberations; 2:40 p.m.-2:50 p.m. Special Projects Subcommittee Update; 2:50 p.m.-3:00 p.m. Policy Subcommittee Update; 3:00 p.m.-3:15 p.m. Break; 3:15 p.m.-3:45 p.m. Public Comment; 3:45 p.m.-4:00 p.m. Meeting Wrap-Up/Preview of Next Meeting; 4:00 p.m. Public Meeting Day 2 Adjourned.

Meeting Accessibility: Pursuant to 5 U.S.C. 552b and 41 CFR 102-3.140 through 102-3.165, this meeting is open to the public from 1:30 p.m. to 4:45 p.m. on June 11, 2024 and 9:30 a.m. to 4:00 p.m. on June 12, 2024. All members of the public who wish to participate virtually must register by contacting DAC-IPAD at whs.pentagon.em.mbx.dacipad@mail.mil or by contacting Mr. Pete Yob at (703) 693-3857 no later than Monday, June 10, 2024. Once registered, the web address and/or audio number will be provided.

Special Accommodations: Individuals requiring special accommodations to access the public meeting should contact Mr. Pete Yob at (703) 693-3857 no later than Friday, June 7, 2024 so that appropriate arrangements can be made.

Written Statements: Pursuant to 41 CFR 102-3.140 and 10(a)(3) of the FACA, the public or interested organizations may submit written comments to the Committee about its mission and topics pertaining to this public session. Written comments must be received by the DAC-IPAD at least five (5) business days prior to the meeting date so that they may be made available to the Committee members for their consideration prior to the meeting. Written comments not received by the DAC-IPAD at least five (5) business days prior to the meeting date, or after, will be provided to the Chair of the DAC-IPAD for consideration. Written comments may be submitted via email to the DAC-IPAD at whs.pentagon.em.mbx.dacipad@mail.mil in the following formats: Adobe Acrobat or Microsoft Word. Written comments may also be mailed to the address listed in FOR FURTHER INFORMATION CONTACT. Please note that since the DAC-IPAD operates under the provisions of the FACA, all written comments received will be treated as public documents and will be made available for public inspection.

Oral public comments: Individuals may submit a request to make an oral public comment at the June 12, 2024, meeting. Advance copy of oral public comments must be sent via email at whs.pentagon.em.mbx.dacipad@mail.mil with the subject line “DAC-IPAD: Request to Speak <insert the issue and question>” no later than 11:59 p.m. ET on Friday, June 7, 2024. Submissions received after the deadline will not be considered for oral public comment but will be provided to the Chair of the DAC-IPAD for consideration. All submitted oral comments become government property and may be published as part of the meeting record.

Registration for oral public comment is on a first-come, first-served basis. Comments are limited to two (2) minutes or less per person. After the maximum number of speakers is exceeded, individuals registered to provide oral comment will be placed on a wait list and notified should an opening become available. Should time expire for oral public comments those not presented will be provided to the Chair of the DAC-IPAD for consideration. You will be notified via email no later than June 11, 2024, if you have been identified to provide in-person public comment.

Dated: June 2, 2024.
Aaron T. Siegel,
Alternate OSD Federal Register Liaison Officer, Department of Defense.

[FR Doc. 2024-12382 Filed 6-5-24; 8:45 am]

BILLING CODE 6001-FR-P